DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the name of one individual whose property and interests in property has been blocked pursuant to the Foreign Narcotics Kingpin Designation Act (“Kingpin Act”) (21 U.S.C. §§ 1901-1908, 8 U.S.C. 1182).

DATES: The designation by the Director of OFAC of the one individual identified in this notice pursuant to section 805(b) of the Kingpin Act is effective on November 15, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Notice: On November 15, 2012, the Director of OFAC designated the following one individual whose property and interests in property are blocked pursuant to section 805(b) of the Kingpin Act.

Individual

1. BARICH, Mohammad Naim (a.k.a. BARAICH, Mullah Naeem; a.k.a. BARECH AKHUND, Mullah Naim; a.k.a. BARECH, Mullah Naim; a.k.a. BAREH, Mullah Naim; a.k.a. BARIC, Mullah Naeem; a.k.a. BARICH, Haji Gul Mohammed Naim; a.k.a. BARICH, Mullah Naim; a.k.a. BERICH, Naim; a.k.a. “HAJI GUL MOHAMMAD”; a.k.a. “MULLAH NAIMULLAH”); DOB 01 Jan 1975; alt. DOB 01 Jan 1974; alt. DOB 01 Jan 1976; POB Lakhi Village, Hazarjuft Area, Garmsir District, Helmand Province, Afghanistan; alt. POB Laki Village, Garmsir District, Helmand Province, Afghanistan; alt. POB Lakari Village, Garmsir District, Helmand Province, Afghanistan; alt. POB Darvishan, Garmsir District, Helmand Province, Afghanistan; alt. POB De Luy Wiyalah Village, Garmsir District, Helmand Province, Afghanistan; nationality Afghanistan (individual) [SDNTK].

Dated: November 15, 2012.
Adam J. Szubin,
Director, Office of Foreign Assets Control.

[FR Doc. 2012-28191 Filed 11-19-12; 8:45 am]

BILLING CODE 4810-AL-P